DEPARTMENT OF ENERGY

Nuclear Energy Research Advisory Committee

AGENCY: Department of Energy.

ACTION: Notice of open meeting.

SUMMARY: This notice announces a meeting of the Nuclear Energy Research Advisory Committee. The Federal Advisory Committee Act (Pub. L. 92-463, 86 Stat. 770), requires that public notice of the meetings be announced in the Federal Register.

DATES: Wednesday, February 22, 2006, 9 am to 5 pm and Thursday, February 23, 2006, 9 am to 12:15 pm.

ADDRESSES: Sheraton Crystal City, 1800 Jefferson Davis Highway, Crystal City, Virginia 22202, (703) 486-1111.

FOR FURTHER INFORMATION CONTACT: Mr. Mark Roth, Designated Federal Officer, Nuclear Energy Research Advisory Committee, U.S. Department of Energy, NE-20, 19901 Germantown Road, Germantown, MD 20874, Telephone Number 301.903.5501, E-mail: mark.roth@nuclear.energy.gov.

SUPPLEMENTARY INFORMATION: Purpose of the Meeting: To provide advice to the Director of the Office of Nuclear Energy, Science and Technology (NE) of the Department of Energy on the many complex planning, scientific and technical issues that arise in the development and implementation of the Nuclear Energy research program.

Tentative Agenda

Wednesday February 22, 2006

Welcome Remarks

Organizational Issues

Status of Office of Nuclear Energy, Science and Technology Programs and Budget

• FY 2007 Budget

• New Initiatives

Subcommittee Reports

• Generation IV Subcommittee Report

• Advanced Nuclear Transformation Technologies Subcommittee

Thursday, February 23, 2006

Continuation of Discussions from Wednesday

Public comment period

Setting of Dates for Next Meeting

Adjournment

Public Participation: The day and a half meeting is open to the public on a first-come, first-served basis because of limited seating. Written statements may be filed with the committee before or after the meeting. Members of the public who wish to make oral statements pertaining to agenda items should contact Mark Roth at the addresses or telephone listed above. Requests to make oral statements must be made and received five days prior to the meeting; reasonable provision will be made to include the statement in the agenda. The Chair of the committee is empowered to conduct the meeting in a fashion that will facilitate the orderly conduct of business.

Minutes: The minutes of this meeting will be available for public review and copying at the Freedom of Information Reading Room. 1E-190, Forrestal Building, 1000 Independence Avenue, SW., Washington, DC, between 9 a.m. and 4 p.m., Monday through Friday, except holidays.

Issued in Washington, DC, on February 2, 2006.
Rachel M. Samuel,
Deputy Advisory Committee Management Officer.

[FR Doc. E6-1698 Filed 2-7-06; 8:45 am]

BILLING CODE 6450-01-P